DEPARTMENT OF ENERGY

Federal Energy Regulatory Commission

Combined Notice of Filings #1

Take notice that the Commission received the following electric corporate filings:

Docket Numbers: EC14-33-000.

Applicants: Kendall Green Energy Holdings LLC, NRG North America LLC, NRG Kendall LLC.

Description: Application of NRG North America LLC and NRG Kendall LLC for Authorization for Disposition and Merger of Jurisdictional Facilities Under Section 203(a)(1) of the Federal Power Act and Request for Expedited Consideration.

Filed Date: 11/22/13.

Accession Number: 20131122-5186.

Comments Due: 5 p.m. ET 12/13/13.

Take notice that the Commission received the following electric rate filings:

Docket Numbers: ER11-2855-008; ER11-2856-008; ER11-2857-008.

Applicants: Avenal Park LLC, Sand Drag LLC, Sun City Project LLC.

Description: Supplement to June 28, 2013 Triennial Market Power Analysis for the Southwest Region of Avenel Park LLC, et. al.

Filed Date: 11/22/13.

Accession Number: 20131122-5190.

Comments Due: 5 p.m. ET 12/13/13.

Docket Numbers: ER13-2339-000, ER13-2340-000; ER13-2341-000; ER13-2342-000; ER13-2343-000; ER13-2344-000; ER13-2345-000; ER13-2346-000; ER13-2347-000; ER13-2348-000; ER13-2349-000; ER13-2350-000; ER13-2351-000.

Applicants: Entergy Arkansas, Inc., Entergy Gulf States Louisiana, L.L.C, Entergy Louisiana, LLC, Entergy Mississippi, Inc., Entergy New Orleans, Inc., Entergy Texas, Inc., Entergy Nuclear Palisades, LLC, EWO Marketing, LLC, Llano Estacado Wind, LLC, Northern Iowa Windpower, LLC, EAM Nelson Holding, LLC, RS Cogen, LLC, Entergy Power, LLC.

Description: Entergy Arkansas, Inc., et. al submits Supplement to September 9, 2013 tariff filing Amended MBR Tariff for MISO.

Filed Date: 11/21/13.

Accession Number: 20131121-5223.

Comments Due: 5 p.m. ET 12/2/13.

Docket Numbers: ER14-451-000.

Applicants: Central Maine Power Company.

Description: Executed Interconnection Agreement with Mid-Maine Waste Action Corporation to be effective 1/1/2014.

Filed Date: 11/22/13.

Accession Number: 20131122-5139.

Comments Due: 5 p.m. ET 12/13/13.

Docket Numbers: ER14-452-000.

Applicants: Maine Electric Power Company.

Description: Executed E&P Agreement with Number Nine Wind Farm LLC to be effective 11/22/2013.

Filed Date: 11/22/13.

Accession Number: 20131122-5140.

Comments Due: 5 p.m. ET 12/13/13.

Docket Numbers: ER14-453-000.

Applicants: PJM Interconnection, L.L.C.

Description: Notice of Cancellation of Original Service Agreement No. 3394; Queue No. W3-122 to be effective 11/25/2013.

Filed Date: 11/22/13.

Accession Number: 20131122-5145.

Comments Due: 5 p.m. ET 12/13/13.

Docket Numbers: ER14-454-000.

Applicants: PJM Interconnection, L.L.C.

Description: Notice of Cancellation of Original Service Agreement No. 2970; Queue No. W3-123 to be effective 11/25/2013.

Filed Date: 11/22/13.

Accession Number: 20131122-5146.

Comments Due: 5 p.m. ET 12/13/13.

Docket Numbers: ER14-455-000.

Applicants: PJM Interconnection, L.L.C.

Description: PJM and FE Service Co. for Green Valley Hydro Submit Revised Service Agmnts to be effective 12/31/2050.

Filed Date: 11/22/13.

Accession Number: 20131122-5163.

Comments Due: 5 p.m. ET 12/2/13.

Docket Numbers: ER14-456-000.

Applicants: PJM Interconnection, L.L.C.

Description: Revisions to the PJM Tariff Att DD Sec 15 re CETL Easily Resolvable Constraints to be effective 1/22/2014.

Filed Date: 11/22/13.

Accession Number: 20131122-5164.

Comments Due: 5 p.m. ET 12/13/13.

Docket Numbers: ER14-457-000.

Applicants: Southern California Edison Company.

Description: Southern California Edison Company submits Notices of Cancellation to 4 Ltr Agmts related to SES Solar One Project.

Filed Date: 11/22/13.

Accession Number: 20131122-5167.

Comments Due: 5 p.m. ET 12/13/13.

Docket Numbers: ER14-458-000.

Applicants: EmberClear Co.

Description: Request for Waiver, Shortened Comment Period, and Expedited Consideration of EmberClear Co. under ER14-458.

Filed Date: 11/22/13

Accession Number: 20131122-5192.

Comments Due: 5 p.m. ET 12/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2013.
Nathaniel J. Davis, Sr.,
Deputy Secretary.

[FR Doc. 2013-28922 Filed 12-3-13; 8:45 am]

BILLING CODE 6717-01-P